DEPARTMENT OF STATE

[Public Notice 10271]

Biennial Review Under the United States-Singapore Memorandum of Intent on Environmental Cooperation

ACTION: Notice of a biennial review under the United States-Singapore Memorandum of Intent on Environmental Cooperation, and request for comments.

SUMMARY: The U.S. Department of State is providing notice that the United States and Singapore intend to hold a biennial review under the Memorandum of Intent between the United States of America and the Republic of Singapore on Cooperation in Environmental Matters (MOI) on January 19, 2018. The purpose of the meeting is to review the results of environmental cooperation under the MOI guided by the 2016-2017 Plan of Action (POA). The United States and Singapore also expect to approve a new 2018-2019 POA.

The meeting's public session will be held on January 19, 2018, at 5:00 p.m., at the Ministry of the Environment and Water Resources, 40 Scotts Road, #24-00, Level 23, Environment Building, Singapore 228231, Tel: (65) 6731 9000. The U.S. Department of State invites interested organizations and members of the public to attend the public session, and to submit in advance written comments or suggestions regarding implementation of the POA, and any issues that should be discussed at the meeting. If you would like to attend the public session, please notify Tiffany Prather at the email address listed below under the heading ADDRESSES. Please include your full name and any organization or group you represent. In preparing comments, submitters are encouraged to refer to:

• 2016-2017 POA, https://www.state.gov/e/oes/eqt/trade/singapore/246192.htm

Other useful documents are available at: https://www.state.gov/e/oes/eqt/trade/singapore/index.htm.

DATES: The public session for the Biennial Review under the MOI will be held on January 19, 2018, at 5:00 p.m., at the Ministry of the Environment and Water Resources, 40 Scotts Road, #24-00, Level 23, Environment Building, Singapore 228231, Tel: (65) 6731 9000. Written comments and suggestions should be submitted no later than noon on January 18, 2018 to facilitate consideration.

ADDRESSES: Written comments and suggestions should be submitted to: Tiffany Prather, Office of Environmental Quality and Transboundary Issues, U.S. Department of State, by electronic mail at PratherTA@state.gov with the subject line “United States-Singapore Biennial Review.”

FOR FURTHER INFORMATION CONTACT: Tiffany Prather, Telephone (202) 647-4548 or email PratherTA@state.gov.

SUPPLEMENTARY INFORMATION: The MOI was signed on June 13, 2003. Section 3 of the MOI calls for biennial meetings to review the status of environmental cooperation and update the POA, as appropriate.

Robert Wing,
Acting Director, Office of Environmental Quality and Transboundary Issues, Department of State.

[FR Doc. 2018-00700 Filed 1-16-18; 8:45 am]

BILLING CODE 4710-09-P